DEPARTMENT OF COMMERCE

National Oceanic and Atmospheric Administration

RIN: 0648-XI72

Gulf of Mexico Fishery Management Council; Public Meeting

AGENCY: National Marine Fisheries Service (NMFS), National Oceanic and Atmospheric Administration (NOAA), Commerce.

ACTION: Notice of a public meeting.

SUMMARY: The Gulf of Mexico Fishery Management Council to convene its Spiny Lobster Advisory Panel (AP) via conference call.

DATES: The conference call will be held July 28, 2008, at 2 p.m. EDT.

ADDRESSES: The meeting will be held via conference call and listening stations will be available. For specific locations, see SUPPLEMENTARY INFORMATION.

Council address: Gulf of Mexico Fishery Management Council, 2203 North Lois Avenue, Suite 1100, Tampa, FL 33607.

FOR FURTHER INFORMATION CONTACT: Carrie Simmons, Fishery Biologist, Gulf of Mexico Fishery Management Council; telephone: (813) 348-1630.

SUPPLEMENTARY INFORMATION: The conference call will begin at 2 p.m. EDT and conclude no later than 3:30 p.m. EDT. Listening stations are available at the following locations:

The Gulf Council office (see ADDRESSES), and the National Marine Fisheries Service (NMFS) offices as follows:

St. Petersburg, FL

263 13th Ave. S., St Petersburg, FL 33701, Karolyn Potter, telephone: (727) 551-5705; and

Miami, FL

75 Virginia Beach Drive, Miami, FL 32149, Sonia Prevo, telephone: (305) 361-4200.

The Spiny Lobster Advisory Panel will discuss Amendment 8 on FMP of Gulf of Mexico and South Atlantic, preferred alternatives of the South Atlantic, and the Advisory panel recommendations for the fishery management plan.

Although other non-emergency issues not on the agenda may come before the Spiny Lobster AP for discussion, in accordance with the Magnuson-Stevens Fishery Conservation and Management Act (Magnuson-Stevens Act), those issues may not be the subject of formal action during the meeting. Actions will be restricted to the issue specifically identified in the agenda and any issues arising after publication of this notice that require emergency action under Section 305(c) of the Magnuson-Stevens Act, provided the public has been notified of the Council's intent to take action to address the emergency.

Special Accommodations

The listening stations are physically accessible to people with disabilities. Requests for sign language interpretation or other auxiliary aids should be directed to Tina O'Hern at the Council (see ADDRESSES) at least 5 working days prior to the meeting.

Dated: June 25, 2008.
Tracey L. Thompson,
Acting Director, Office of Sustainable Fisheries, National Marine Fisheries Service.

[FR Doc. E8-14808 Filed 6-27-08; 8:45 am]

BILLING CODE 3510-22-S